DEPARTMENT OF JUSTICE

Notice of Lodging of Consent Decree

Notice is hereby given that a proposed Consent Decree with C & A Diary in United States v. Calvin and Annette VanDerVeen, No. 00-1159-KI, was lodged on November 15, 2001, with the United States District Court for the District of Oregon.

The proposed Consent Decree would resolve a lawsuit filed by the United States against Defendants in the United States District Court for the District of Oregon on August 22, 2000. The complaint alleged that Defendants had discharged manure from the C & A Dairy, in McMinnville, Oregon, into a creek on at least four occasions between March 1998 and April 2000, in violation of sections 309(b) and (d) of the Clean Water Act, 33 U.S.C. 1319(b) & (d); the complaint also alleged that Defendants had failed to comply with a 1998 EPA administrative order to cease discharging and to prepare a corrective action plan. The proposed Consent Decree provides for the payment of a $1,000 civil penalty and contains a prohibition against future discharges.

The Department of Justice will receive, for a period of thirty (30) days from the date of this publication, comments relating to the proposed Consent Decree. Comments should be addressed to the Assistant Attorney General for the Environment and Natural Resources Division, Department of Justice, Washington, DC 20530, and should refer to United States v. Calvin and Annette VanDerVeen, DOJ Ref. #90-5-1-1-06963.

The proposed Consent Decree may be examined at the office of the United States Attorney, 1000 SW. 3rd Avenue, Suite 600, U.S. Courthouse, Portland, Oregon 97204; the Region 10 office of the Environmental Protection Agency, 1200 Sixth Avenue, Seattle, WA 98101. A copy of the consent decree can be obtained by mail from the Department of Justice Consent Decree Library, P.O. Box 7611, Washington, DC 20044. In requesting a copy refer to the referenced case and enclose a check in the amount of $3.25 (25 cents per page reproduction costs), payable to the Consent Decree Library.

Robert Maher,
Assistant Section Chief, Environmental Enforcement Section.

[FR Doc. 01-30153 Filed 12-4-01; 8:45 am]

BILLING CODE 4410-15-M